DEPARTMENT OF TRANSPORTATION

Surface Transportation Board

[Finance Docket 34075]

Six County Association of Governments—Construction and Operation—Rail Line Between Levan and Salina, UT

AGENCY: Surface Transportation Board, DOT.

ACTION: Notice of intent to prepare an Environmental Impact Statement.

SUMMARY: On July 30, 2001 the Six County Association of Governments (SCAOG) filed a Petition for Exemption with the Surface Transportation Board (Board) pursuant to 49 U.S.C. 10502 for authority for construction of a new rail line between Levan and Salina, Utah. The project would involve approximately 45 miles of new rail line and ancillary facilities. Because the construction and operation of this project has the potential to result in significant environmental impacts, the Board's Section of Environmental Analysis (SEA) has determined that the preparation of an Environmental Impact Statement (EIS) is appropriate. The purpose of this Notice of Intent is to notify individuals and agencies interested in or affected by the proposed project of the decision to require an EIS. SEA will hold public scoping meetings as part of the EIS process.

SUPPLEMENTARY INFORMATION: Background: The proposed project, known as the Central Utah Rail Project, includes construction and operation of approximately 45 miles of new rail line connecting the existing Union Pacific Railroad (UPRR) line near Levan, Utah to a proposed coal transfer terminal facility near Salina, Utah. Implementation of the proposed project would restore rail service to the Sevier Valley, providing a more direct connection to rail service for the coal industry (primarily the Southern Utah Fuels Company), provide rail service to other shippers in the Sevier Valley, and reduce the number of trucks on highways in the Sevier Valley. The EIS will analyze the potential impacts of the proposed route, the “no-build” alternative, and an alternative alignment.

Environmental Review Process: The National Environmental Policy Act (NEPA) process is intended to assist the Board and the public in identifying and assessing the potential environmental consequences of a proposed action before a decision on the proposed action is made. SEA is responsible for ensuring that the Board complies with NEPA and related environmental statutes. The first stage of the EIS process is scoping. Scoping is an open process for determining the scope of environmental issues to be addressed in the EIS. SEA will soon develop and make available a draft scope of study for the EIS and provide a period for the submission of written comments on it. Concurrently, scoping meetings will be held to provide further opportunities for public involvement and input into the scoping process. The dates, time and locations for the scoping meetings are as follows:

Wednesday, October 22, 2003, 6 p.m. to 8 p.m., North Sevier High School, 350 West 400 North, Salina, Utah, School Office (435) 529-3717.

Thursday, October 23, 2003, 6 p.m. to 8 p.m., Gunnison City Hall, 38 West Center Street, Gunnison, Utah, Office (435) 528-7969.

Following the issuance of a draft scope and the comment period, SEA will issue a final scope of study for the EIS.

After issuing the final scope of study, SEA will prepare a Draft EIS (DEIS) for the project. The DEIS will address those environmental issues and concerns identified during the scoping process. It will also contain SEA's preliminary recommendations for environmental mitigation measures. The DEIS will be made available upon its completion for public and agency review and comment. SEA will prepare a Final EIS (FEIS) that considers comments on the DEIS from the public and agencies. In reaching its decision in this case, the Board will take into account the DEIS, the FEIS, and all environmental comments that are received.

FOR FURTHER INFORMATION CONTACT: Phillis Johnson-Ball, Section of Environmental Analysis, Surface Transportation Board, 1925 K Street NW., Washington, DC 20423-0001, at 1-202-565-1530. (TDD for the hearing impaired 1-800-877-8339). The website for the Surface Transportation Board is http://www.stb.dot.gov.

By the Board, Victoria Rutson, Chief, Section of Environmental Analysis.
Vernon A. Williams,
Secretary.

[FR Doc. 03-24740 Filed 9-29-03; 8:45 am]

BILLING CODE 4915-00-P